DEPARTMENT OF VETERANS AFFAIRS

[OMB Control No. 2900-0154]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATE: Comments must be submitted on or before December 28, 2000.

FOR FURTHER INFORMATION OR A COPY OF THE SUBMISSION CONTACT: Denise McLamb, Information Management Service (045A4), Department of Veterans Affairs, 810 Vermont Avenue, NW., Washington, DC 20420, (202) 273-8030 or FAX (202) 273-5981. Please refer to “OMB Control No. 2900-0154.”

SUPPLEMENTARY INFORMATION: Title: Application for VA Education Benefits, VA Form 22-1990.

OMB Control Number: 2900-0154.

Type of Review: Revision of a currently approved collection.

Abstract: Veterans and members of the selected reserve must complete VA Form 22-1990, Application for Education Benefits, in order to receive VA educational assistance allowance. The information on the application is used to determine the applicant's eligibility to education benefits.

An agency may not conduct or sponsor, and a person is not required to respond to a collection of information unless it displays a currently valid OMB control number. The Federal Register Notice with a 60-day comment period soliciting comments on this collection of information was published on August 17, 2000, at pages 50275 and 50276.

Affected Public: Individuals or households.

Estimated Annual Burden: 73,554 hours.

Estimated Average Burden Per Respondent: 35 minutes.

Frequency of Response: Only once.

Estimated Number of Respondents: 126,093.

Send comments and recommendations concerning any aspect of the information collection to VA's Desk Officer, OMB Human Resources and Housing Branch, New Executive Office Building, Room 10235, Washington, DC 20503 (202) 395-7316. Please refer to “OMB Control No. 2900-0154” in any correspondence.

Dated: October 31, 2000.
By direction of the Secretary.
Donald L. Neilson,
Director, Information Management Service.

[FR Doc. 00-30298 Filed 11-27-00; 8:45 am]

BILLING CODE 8320-01-P